DEPARTMENT OF HOMELAND SECURITY

Secret Service

Appointment of Performance Review Board (PRB) Members

This notice announces the appointment of members of the Senior Executive Service Performance Review Boards in accordance with 5 U.S.C. 4314(c)(4) for the rating period beginning October 1, 2002, and ending September 30, 2003. Each PRB will be composed of at least three of the Senior Executive Service members listed below:

Name and Title

Carlton D. Spriggs—Deputy Director, U.S. Secret Service.

Barbara S. Riggs—Chief of Staff (USSS).

Brian K. Nagel—Assistant Director, Investigations (USSS).

Mark J. Sullivan—Assistant Director, Protective Operations (USSS).

Carl J. Truscott—Assistant Director, Protective Research (USSS).

Stephen T. Colo—Assistant Director, Administration (USSS).

Donald A. Flynn—Assistant Director, Inspection (USSS).

Keith L. Prewitt—Assistant Director, Human Resources & Training (USSS).

George D. Rogers—Assistant Director, Government & Public Affairs (USSS).

Paul D. Irving—Assistant Director, Homeland Security (USSS).

John J. Kelleher—Chief Counsel (USSS).

FOR FURTHER INFORMATION CONTACT: Sheila M. Lumsden, Chief, Personnel Division, 950 H Street, NW., Suite 7400, Washington, DC 20223, Telephone No. (202) 406-5307.

W. Ralph Basham,
Director.

[FR Doc. 03-22213 Filed 8-29-03; 8:45 am]

BILLING CODE 4810-42-M